DEPARTMENT OF THE INTERIOR

National Park Service

Notice of Inventory Completion: U.S. Department of Agriculture, Forest Service, Tonto National Forest, Phoenix, AZ, and Arizona State University, School of Evolution and Social Change, Phoenix, AZ

AGENCY: National Park Service, Interior.

ACTION: Notice.

Notice is here given in accordance with the Native American Graves Protection and Repatriation Act (NAGPRA), 25 U.S.C. 3003, of the completion of an inventory of human remains and associated funerary objects in the control of the U.S. Department of Agriculture, Forest Service, Tonto National Forest, Phoenix, AZ, and in the possession of Arizona State University, School of Evolution and Social Change, Phoenix, AZ. The human remains and associated funerary objects were removed from the Dugan Ranch Ruin, Yavapai County, AZ.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Arizona State University, School of Evolution and Social Change (formerly Department of Anthropology) professional staff and Tonto National Forest professional staff in consultation with representatives of the Ak Chin Indian Community of the Maricopa (Ak Chin) Indian Reservation, Arizona; Gila River Indian Community of the Gila River Indian Reservation, Arizona; Salt River Pima-Maricopa Indian Community of the Salt River Reservation, Arizona; Tohono O'odham Nation of Arizona (collectively known as the “Four Southern Tribes”); Hopi Tribe of Arizona; and Zuni Tribe of the Zuni Reservation, New Mexico.

In 1968 and 1969, human remains representing a minimum of 17 individuals were removed from the Dugan Ranch Ruin [AZ O:13:0004 (ASU); AR-03-12-01-027] in Yavapai County, AZ. The site was excavated under a permit to the Southwestern Society for Indian Archaeology, Walnut City, CA, from the Tonto National Forest. The excavations were carried out by high school students from the Bassett Unified School District, Los Angeles County, CA, under the supervision of Charles H. Stephens. In the course of an investigation of the activities of Mr. Stephens by Law Enforcement officers of the Forest Service, the collections from the Dugan Ranch Ruin, including all excavated human remains and funerary objects, were recovered and transferred to the Department of Anthropology at Arizona State University for curation. No known individuals were identified. The approximately 50 associated funerary objects are pottery sherds.

Dugan Ranch Ruin is a masonry room block with interior courtyards that was occupied principally in the Late Classical Period (A.D. 1300-1400) and was associated with the Verde Hohokam archeological culture in central Arizona based on the ceramics, architecture, and organization of the site. Based on oral traditions and continuities of artifactual materials, technology and architecture, officials of the Tonto National Forest have determined that the Ak Chin Indian Community of the Maricopa (Ak Chin) Indian Reservation, Arizona; Gila River Indian Community of the Gila River Indian Reservation, Arizona; Salt River Pima-Maricopa Indian Community of the Salt River Reservation, Arizona; and Tohono O'odham Nation of Arizona; and to, a lesser extent, the Hopi Tribe of Arizona; and Zuni Tribe of the Zuni Reservation, New Mexico, have a shared group identity to the Native American human remains and associated funerary objects of the Hohokam archeological culture. In accordance with the Plan for the Treatment and Disposition of Human Remains and Other Cultural Items from the Tonto National Forest Pursuant to the Native American Graves Protection and Repatriation Act (as revised in 2001), it has been determined that the primary cultural affiliation of these human remains and associated funerary objects is with the Ak Chin Indian Community of the Maricopa (Ak Chin) Indian Reservation, Arizona; Gila River Indian Community of the Gila River Indian Reservation, Arizona; Salt River Pima-Maricopa Indian Community of the Salt River Reservation, Arizona; and Tohono O'odham Nation of Arizona; and that they will be repatriated to the Salt River Pima-Maricopa Indian Community of the Salt River Reservation, Arizona, as the designated representative of the “Four Southern Tribes” for NAGPRA issues north of the Gila and Salt River Baseline in Arizona, which area includes the location of Dugan Ranch Ruin.

Officials of the Tonto National Forest have determined that, pursuant to 25 U.S.C. 3001 (9-10), the human remains described above represent the physical remains of 17 individuals of Native American ancestry. Officials of the Tonto National Forest also have determined that, pursuant to 25 U.S.C. 3001 (3)(A), the approximately 50 objects described above are reasonably believed to have been placed with or near individual human remains at the time of death or later as part of the death rite or ceremony. Lastly, officials of the Tonto National Forest have determined that, pursuant to 25 U.S.C. 3001 (2), there is a relationship of shared group identity that can be reasonably traced between the Native American human remains and associated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Representatives of any other Indian tribe that believes itself to be culturally affiliated with the human remains and/or associated funerary objects should contact Dr. Frank E. Wozniak, NAGPRA Coordinator, Southwestern Region, USDA Forest Service, 333 Broadway Blvd., SE, Albuquerque, NM 87102, telephone (505) 842-3238, before July 17, 2008. Repatriation of the human remains and associated funerary objects to the Salt River Pima-Maricopa Indian Community of the Salt River Reservation, Arizona may proceed after that date if no additional claimants come forward.

The Tonto National Forest is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico that this notice has been published.

Dated: May 21, 2008
Sherry Hutt,
Manager, National NAGPRA Program.

[FR Doc. E8-13574 Filed 6-16-08; 8:45 am]

BILLING CODE 4312-50-S